DEPARTMENT OF THE INTERIOR

Bureau of Land Management

[LLCAN01000.L10200000.XZ0000]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, March 25 and 26, 2010, in Napa County, California. On March 25, the RAC convenes at 10 a.m. at the Calpine Geothermal Visitor Center, 15550 Central Park Rd., Middletown, for a field tour of public lands managed by the BLM Ukiah Field Office. On March 26, the meeting begins at 8 a.m. in the Conference Room of the Inn at Southbridge, 1020 Main St., St. Helena. Time for public comment has been reserved for 11 a.m.

FOR FURTHER INFORMATION CONTACT: Nancy Haug, BLM Northern California District manager, (530) 221-1743; or BLM Public Affairs Officer Joseph J. Fontana, (530) 252-5332.

SUPPLEMENTARY INFORMATION: The 12-member council advises the Secretary of the Interior, through the BLM, on a variety of planning and management issues associated with public land management in Northwest California. At this meeting agenda topics include discussion of BLM image and identity issues, a status report on public land equestrian projects in the Northwest California region, a status report on land use planning, information on activities at the Weaverville Community Forest, a status report on the North Coast Geotourism MapGuide project, access to South Cow Mountain and projects being undertaken as part of the American Reinvestment and Recovery Act. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: January 22, 2010.
Joseph J. Fontana,
Public Affairs Officer.

[FR Doc. 2010-2003 Filed 1-29-10; 8:45 am]

BILLING CODE 4310-40-P